SECURITIES AND EXCHANGE COMMISSION

[Release No. 34-64969A; File No. SR-FINRA-2009-028]

Self-Regulatory Organizations; Financial Industry Regulatory Authority, Inc.; Notice of Filing of Amendment No. 1 to Proposed Rule Change To Adopt FINRA Rule 2231 (Customer Account Statements) in the Consolidated FINRA Rulebook; Correction

October 7, 2011.

AGENCY: Securities and Exchange Commission.

ACTION: Notice; correction.

SUMMARY: The Securities and Exchange Commission published in the Federal Register of August 2, 2011 a Notice of Filing of Amendment No. 1 to Proposed Rule Change to Adopt FINRA Rule 2231 (Customer Account Statements) in the Consolidated FINRA Rulebook (“Notice”). The Notice contained incorrect information regarding the timing for Commission action.

FOR FURTHER INFORMATION CONTACT: Alicia Goldin, Division of Trading and Markets, Securities and Exchange Commission, 100 F Street, NE., Washington, DC 20549, (202) 551-5618.

Correction

In the Federal Register of August 2, 2011, in FR Doc. 2011-19420, on page 46346, the text beginning at the 8th line of the 2nd column, under the heading “Section III. Date of Effectiveness of the Proposed Rule Change and Timing for Commission Action,” is corrected to read as follows:

Within 35 days of the date of publication of this notice in the Federal Register or within such longer period (i) As the Commission may designate up to 90 days of such date if it finds such longer period to be appropriate and publishes its reasons for so finding or (ii) as to which the self-regulatory organization consents, the Commission will:

(A) By order approve such proposed rule change, or

(B) Institute proceedings to determine whether the proposed rule change should be disapproved.

Elizabeth M. Murphy,
Secretary.

[FR Doc. 2011-26526 Filed 10-13-11; 8:45 am]

BILLING CODE 8011-01-P